DEPARTMENT OF HEALTH AND HUMAN SERVICES

Centers for Disease Control and Prevention

[30Day-04-04KH]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

ACHES (Arthritis Conditions Health Effects Survey)—New—National Center for Chronic Disease Prevention and Health Promotion (NCCDPHP), Centers for Disease Control and Prevention (CDC).

Background

Arthritis and other rheumatic conditions are among the most prevalent diseases and are the most frequent cause of disability in the United States. Health care costs for arthritis were estimated at $86.2 billion for 1997. In 2001, an estimated 33% of U.S. adults (70 million) reported prior diagnosis of arthritis or chronic joint symptoms. As the U.S. population increasingly “grays,” the economic and disability burden from arthritis will only grow.

Fortunately, arthritis can be successfully managed and its impacts lessened. Exercise, weight loss, medications, joint replacement surgeries and educational and sociobehavioral interventions can decrease pain as well as improve physical function and quality of life. Ultimately, this will reduce health care costs. Unfortunately, relatively little is known nationally about persons with arthritis or chronic joint symptoms to better target these interventions. Current national health surveys and databases have extremely limited coverage about arthritis and the myriad of issues surrounding the conditions.

CDC plans to conduct ACHES (Arthritis Conditions Health Effects Survey) to close the information gaps about arthritis. ACHES is a national random digit dial telephone survey dedicated solely to arthritis for the purpose of gathering information on symptoms, limitations, physical functioning levels, effects of arthritis on work, knowledge and attitudes about arthritis, self management of arthritis, current physical activity, anxiety, depression, and demographics of 4,500 persons age 45 years and older with arthritis. 2,250 respondents will be interviewed each year in this two-year study. The information from it will be used to better direct and target national arthritis control efforts. There are no costs to respondents. The approximate annualized burden is 1,750 hours.

Respondents | Form name | Number of respondents | Number of responses/respondent | Avg. burden/response (in hrs.)
Adult | Screening & Consent | 12,500 | 1 | 3/60
Adult ≥ 45 years with arthritis | Survey Instrument | 2,250 | 1 | 30/60

Dated: October 26, 2004.
B. Kathy Skipper,
Acting Director, Management Analysis and Services Office, Centers for Disease Control and Prevention.

[FR Doc. 04-24318 Filed 10-29-04; 8:45 am]

BILLING CODE 4163-18-P